DEPARTMENT OF COMMERCE

International Trade Administration

Proposed Information Collection; Comment Request; Market Research To Broaden and Deepen U.S. Exporter Base

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 13, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Gary Rand; phone number: (202) 482-0691; email address: Gary.Rand@trade.gov; fax number: (202) 482-5361.

SUPPLEMENTARY INFORMATION:

I. Abstract

In an effort to remain relevant to the marketplace and optimize our respective operations, the Commercial Service (CS), Manufacturing Extension Partnership (MEP), Census Bureau (Census), and Export-Import Bank (Ex-Im) have formed a project team to conduct market segmentation research and analysis. The market segmentation is a systematic approach for identifying clusters of companies with similar needs and behavior, and developing service offerings and sales/marketing approaches targeted at segments with the greatest return of investment. The purpose of this initiative is to gain market knowledge and generate statistically valid characterizations about the needs and buying behavior of exporting companies, with a particular focus on moderate exporters (those U.S. firms that currently export, but on a limited or reactive basis and whose international sales comprise less than 10% of total sales or whose international sales growth is less than 10% per year). From this research, services, pricing, and messaging may be repositioned to address the exporting needs of small and medium-sized businesses.

A telephone survey was chosen over a web survey for the following reasons: (1) Since no databases of current or potential exporters is available from a governmental agency, the third party vendor will purchase a list from Dun and Bradstreet. The list contains contact information including phone numbers but not email addresses; (2) Firms do not offer email address databases, to obtain email addresses, the addresses must be manually extracted from a firm's Web site; (3) While web surveys are easier to administer and provide a convenient option for the respondent, they do not have as high a completion rate as phone surveys. This is especially true when there is no incentive for the respondent to complete the survey; and (4) The web survey has more potential to be completed by a respondent other than the targeted respondent, i.e. there is no way to verify who completed the survey.

II. Method of Collection

The CS will contract with a third party vendor (TBD) to conduct surveys to gain insight into the attitudes, needs, and behaviors of moderate exporters.

The third party vendor will recruit firms over the phone using lists obtained from other third party vendors. Data collection will be conducted during a telephone survey.

III. Data

OMB Control Number: 0625-0264.

Form Number(s): None.

Type of Review: Regular submission (extension of a currently approved information collection).

Affected Public: Business or other for-profit organizations.

Estimated Number of Respondents: 1,600.

Estimated Time Per Response: 30 minutes.

Estimated Total Annual Burden Hours: 800.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 10, 2012.
Gwellnar Banks,
Management Analyst, Office of the Chief Information Officer.

[FR Doc. 2012-598 Filed 1-12-12; 8:45 am]

BILLING CODE 3510-FP-P